COMMODITY FUTURES TRADING COMMISSION

Sunshine Act Meeting

Agency Holding the Meeting: Commodity Futures Trading Commission.

Time and Date: 1:00 p.m., Monday, October 30, 2000.

Place: 1155 21st St., NW., Washington, DC, Lobby Level Hearing Room.

Status: Open.

Matters to be Considered:

• Final rules for a regulatory framework for Multilateral Transaction Execution Facilities, Intermediaries and Clearing Organizations.

• Final rules relating to Intermediaries of Commodity Interest Transactions.

• Final rules for a New Regulatory Framework for Clearing Organizations.

• Final rules on the Exemption for Bilateral Transactions.

Contact Person for More Information: Jean A. Webb, 202-418-5100.

Jean A. Webb,
Secretary of the Commission.

[FR Doc. 00-27501 Filed 10-20-00; 5:06 pm]

BILLING CODE 6351-01-M